DEPARTMENT OF TRANSPORTATION

Surface Transportation Board

[STB Finance Docket No. 34642]

Locust Valley Coal Company d/b/a Locust Valley Line—Acquisition Exemption—Rail Lines in Schuykill County, PA

Locust Valley Coal Company d/b/a Locust Valley Line (Locust Valley), a noncarrier, has filed a verified notice of exemption under 49 CFR 1150.31 to acquire approximately 5 miles of rail line owned by Locust Valley, between milepost 0.0, at Laurel Jct. (also known as Maria Jct.) in Delano Township, and milepost 5.5, beyond Newton Jct., south of Mahanoy City, in Schuykill County, PA. Locust Valley states that the line is currently out of service and there is no operator for the line at this time.¹ However, Locust Valley is in the process of rehabilitating the rail line for service, and developing and marketing the adjacent property along the line to potential shippers. Locust Valley also states that it does not intend to operate the line, but that it intends to lease the rail line to an existing Class III carrier which will provide common carrier service over the subject line.²

¹ It appears that the line has been out of service for many years and was never abandoned. According to Locust, service has been provided over a 1-mile section near Laurel Jct., as a spur to serve one customer.

² According to Locust Valley, a request for authority to lease and operate the line will be filed separately with the Board prior to restoration of service. Locust Valley states that at that time it will have a residual common carrier obligation only.

Locust Valley certifies that its projected annual revenues will not exceed those that would qualify it as a Class III rail carrier and that its annual revenues are not projected to exceed $5 million.

Consummation of the transaction was scheduled to take place on or after December 30, 2004, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34642, must be filed with the Surface Transportation Board, 1925 K Street NW., Washington, DC 20423-0001. In addition, one copy of each pleading must be served on Eric M. Hocky, Esquire, Gollatz, Griffin & Ewing, P.C., Four Penn Center, Suite 200, 1600 John F. Kennedy Blvd., Philadelphia, PA 19103-2808.

Board decisions and notices are available on the Board's website at “http://www.stb.dot.gov.”

Decided: January 12, 2005.
By the Board, David M. Konschnik, Director, Office of Proceedings.
Vernon A. Williams,
Secretary.

[FR Doc. 05-1110 Filed 1-19-05; 8:45 am]

BILLING CODE 4915-01-P